FEDERAL ELECTION COMMISSION

Sunshine Act Notices

Date AND Time: Thursday, March 20, 2003 at 10 a.m.

Place: 999 E Street, NW., Washington, DC (ninth floor).

Status: This meeting will be open to the public.

The following item has been withdrawn from the agenda:

Notice of proposed rulemaking on public funding of presidential primary and general election candidates and conventions.

FOR MORE INFORMATION CONTACT: Ron Harris, Press Officer, Telephone (202) 694-1220.

Mary W. Dove,
Secretary of the Commission.

[FR Doc. 03-6348 Filed 3-12-03; 3:26 pm]

BILLING CODE 6715-01-M